FEDERAL TRADE COMMISSION

16 CFR Chapter I

Notice of Intent To Request Public Comments

AGENCY: Federal Trade Commission.

ACTION: Notice of intent to request public comments.

SUMMARY: As part of its ongoing systematic review of all Federal Trade Commission rules and guides, the Commission gives notice that, during 2005, it intends to request public comments on the two rules listed below. The Commission will request comments on, among other things, the economic impact of, and the continuing need for, the rules; possible conflict between the rules and state, local, or other federal laws or regulations; and the effect on the rules of any technological, economic, or other industry changes. No Commission determination on the need for or the substance of the rules should be inferred from the intent to publish request for comments. In addition, the Commission announces a revised 10-year regulatory review schedule.

FOR FURTHER INFORMATION CONTACT: Further details may be obtained from the contract person listed for the particular rule.

SUPPLEMENTARY INFORMATION: The Commission intends to initiate a review of and solicit public comments on the following rules during 2005:

(1) Children's Online Privacy Protection Rule, 16 CFR part 312. Agency Contracts: Karen Muoio, (202) 326-2491, and Rona Kelner, (202) 326-2752, Federal Trade Commission, Bureau of Consumer Protection, Division of Advertising Practices, 600 Pennsylvania Ave., NW., Washington, DC 20580.

(2) Deceptive Advertising as to Sizes of Viewable Pictures Shown by Television Receiving Sets Rule, 16 CFR part 410. Agency Contact: Neil Blickman, (202) 326-3038, Federal Trade Commission, Bureau of Consumer Protection, Division of Advertising Practices, 600 Pennsylvania Ave., NW., Washington, DC 20580.

As part of its ongoing program to review all current Commission rules and guides, the Commission also has tentatively scheduled reviews of other rules and guides for 2006 through 2015. A copy of this tentative schedule is appended. The Commission, in its discretion, may modify or reorder the schedule in the future to incorporate new legislative rules, or to respond to external factors (such as changes in the law) or other considerations.

Authority: 15 U.S.C. 41-58.

By direction of the Commission.
Donald S. Clark,
Secretary.

APPENDIX

Regulatory Review Modified Ten-Year Schedule
16 CFR Part | Topic | Year to review
18 | Guides for the Nursery Industry | 2006
311 | Recycled Oil Rule | 2006
444 | Credit Practices Rule | 2006
455 | Used Car Rule | 2006
24 | Guides for Select Leather and Imitation Leather Products | 2007
435 | Mail or Telephone Order Merchandise Rule | 2007
500 | Regulations Under Section 4 of the Fair Packaging and Labeling Act (FPLA) | 2007
501 | Exemptions from Part 500 of the FPLA | 2007
502 | Regulations Under Section 5(C) of the FPLA | 2007
503 | Statements of General Policy or Interpretations Under the FPLA | 2007
424 | Retail Food Store Advertising and Marketing Practices Rule | 2008
305 | Appliance Labeling Rule | 2008
306 | Automotive Fuel Ratings, Certification and Posting Rule | 2008
429 | Cooling Off Rule | 2008
601 | Summary of Consumer Rights, Notice of User Responsibilities, and Notice of Furnisher Responsibilities under the Fair Credit Reporting Act | 2008
254 | Guides for Private Vocational and Distance Education Schools | 2009
260 | Guides for the use of Environmental Marketing Claims | 2009
300 | Rules and Regulations under the Wool Products Labeling Act | 2009
301 | Rules and Regulations under the Fur Products Labeling Act | 2009
303 | Rules and Regulations under the Textile Fiber Products Identification Act | 2009
425 | Rule Concerning the Use of Negative Option Plans | 2009
239 | Guides for the Advertising of Warranties and Guarantees | 2010
433 | Preservation of Consumers' Claims and Defenses Rule | 2010
700 | Interpretations of Magnuson-Moss Warranty Act | 2010
701 | Disclosure of Written Consumer Product Warranty Terms and Conditions | 2010
702 | Pre-sale Availability of Written Warranty Terms | 2010
703 | Informal Dispute Settlement Procedures | 2010
23 | Guides for the Jewelry, Precious Metals, and Pewter Industries | 2011
423 | Care Labeling Rule | 2011
14 | Administrative Interpretations, General Policy Statements, and Enforceable Policy Statements | 2011
20 | Guides for the Rebuilt, Reconditions and Other Used Automobile Parts Industry | 2012
233 | Guides Against Deceptive Pricing | 2012
238 | Guides Against Bait Advertising | 2012
240 | Guides for Advertising Allowances and Other Merchandising Payments and Services | 2012
251 | Guide Concerning Use of the Word “Free” and Similar Representations | 2012
259 | Guide Concerning Fuel Economy Advertising for New Automobiles | 2012
310 | Telemarketing Sales Rule | 2013
801 | Hart-Scott-Rodino Antitrust Improvements Act Coverage Rules | 2013
802 | Hart-Scott-Rodino Antitrust Improvements Act Exemption Rules | 2013
803 | Hart-Scott-Rodino Antitrust Improvements Act Transmittal Rules | 2013
304 | Rules and Regulations under the Hobby Protection Act | 2014
309 | Labeling Requirements for Alternative Fuels and Alternative Fueled Vehicles | 2014
314 | Standards for Safeguarding Customer Information | 2014
456 | Ophthalmic Practice Rules | 2015

[FR Doc. 05-593 Filed 1-11-05; 8:45 am]

BILLING CODE 6750-01-M